DEPARTMENT OF ENERGY

Federal Energy Regulatory Commission

Combined Notice of Filings #1

Take notice that the Commission received the following exempt wholesale generator filings:

Docket Numbers: EG20-77-000.

Applicants: FirstEnergy Nuclear Generation, LLC.

Description: Notice of Self-Certification of Exempt Wholesale Generator Status of FirstEnergy Nuclear Generation, LLC.

Filed Date: 2/4/20.

Accession Number: 20200204-5183.

Comments Due: 5 p.m. ET 2/25/20.

Docket Numbers: EG20-78-000.

Applicants: Cambria Wind, LLC.

Description: Notice of Self-Certification as an Exempt Wholesale Generator of Cambria Wind, LLC.

Filed Date: 2/5/20.

Accession Number: 20200205-5170.

Comments Due: 5 p.m. ET 2/26/20.

Docket Numbers: EG20-79-000.

Applicants: Thunderhead Wind Energy LLC.

Description: Notice of Self-Certification of Exempt Wholesale Generator Status of Thunderhead Wind Energy LLC.

Filed Date: 2/5/20.

Accession Number: 20200205-5172.

Comments Due: 5 p.m. ET 2/26/20.

Take notice that the Commission received the following electric rate filings:

Docket Numbers: ER10-2390-005; ER19-784-001; ER10-2394-006; ER12-1563-006; ER10-2395-006; ER10-2422-007; ER12-1562-006; ER11-3642-019.

Applicants: Bicent (California) Malburg LLC, Big Country Datalec LLC, BIV Generation Company, L.L.C., Cayuga Operating Company, LLC, Colorado Power Partners, Rocky Mountain Power, LLC, Somerset Operating Company LLC, Tanner Street Generation, LLC.

Description: Notice of Non-Material Change in Status of Bicent (California) Malburg LLC, et. al.

Filed Date: 2/5/20.

Accession Number: 20200205-5153.

Comments Due: 5 p.m. ET 2/26/20.

Docket Numbers: ER15-1873-012; ER18-471-006; ER18-472-006;ER16-1720-011; ER20-383-002; ER20-384-002; ER20-385-002; ER20-386-002; ER20-387-002 ER20-388-002.

Applicants: Buckeye Wind Energy LLC, States Edge Wind I LLC, Invenergy Energy Management LLC, States Edge Wind I Holdings LLC, Maverick Wind Project, LLC, Maverick Wind Project Holdings LLC, Sundance Wind Project, LLC, Sundance Wind Project Holdings LLC, Traverse Wind Energy LLC, Traverse Wind Energy Holdings LLC.

Description: Notice of Change in Facts of Buckeye Wind Energy LLC, et al.

Filed Date: 2/6/20.

Accession Number: 20200206-5083.

Comments Due: 5 p.m. ET 2/27/20.

Docket Numbers: ER20-958-000.

Applicants: Sierra Pacific Power Company.

Description: Notice of Termination of Service Agreement (No. 17-00040) of Sierra Pacific Power Company.

Filed Date: 2/5/20.

Accession Number: 20200205-5149.

Comments Due: 5 p.m. ET 2/26/20.

Docket Numbers: ER20-959-000.

Applicants: PJM Interconnection, L.L.C.

Description: § 205(d) Rate Filing: Original WMPA SA No 5589; Queue No. AE2-115 to be effective 1/8/2020.

Filed Date: 2/6/20.

Accession Number: 20200206-5094.

Comments Due: 5 p.m. ET 2/27/20.

Docket Numbers: ER20-960-000.

Applicants: New England Power Company.

Description: Tariff Cancellation: Notice of Cancellation of Facilities Use Agreement with Deepwater Wind to be effective 4/7/2020.

Filed Date: 2/6/20.

Accession Number: 20200206-5126.

Comments Due: 5 p.m. ET 2/27/20.

Docket Numbers: ER20-961-000.

Applicants: PJM Interconnection, L.L.C.

Description: § 205(d) Rate Filing: Amendment to WMPA, SA No. 5153; Queue No. AD1-157 (consent) to be effective 7/23/2018.

Filed Date: 2/6/20.

Accession Number: 20200206-5128.

Comments Due: 5 p.m. ET 2/27/20.

Docket Numbers: ER20-962-000.

Applicants: The Narragansett Electric Company.

Description: Tariff Cancellation: Cancellation of Indemnification Agreement with the Deepwater Wind Companies to be effective 4/7/2020.

Filed Date: 2/6/20.

Accession Number: 20200206-5130.

Comments Due: 5 p.m. ET 2/27/20.

The filings are accessible in the Commission's eLibrary system by clicking on the links or querying the docket number.

Any person desiring to intervene or protest in any of the above proceedings must file in accordance with Rules 211 and 214 of the Commission's Regulations (18 CFR 85.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2020.
Nathaniel J. Davis, Sr.,
Deputy Secretary.

[FR Doc. 2020-02814 Filed 2-11-20; 8:45 am]

BILLING CODE 6717-01-P